DEPARTMENT OF JUSTICE

Notice of Lodging of Consent Decree Pursuant to the Safe Drinking Water Act

In accordance with departmental policy, 28 CFR 50.7, notice is hereby given that on January 6, 2000, a proposed consent decree in United States v. Jupiter Oil Corp., et al., C.A. No. 98-CV-72684-DT (E.D. Mich.), was lodged with the United States District Court for the Eastern District of Michigan. The proposed consent decree would resolve pending claims of the United States against defendants, Jupiter Oil Corporation and Blake Energy Company, Inc., in the above-referenced action.

The Amended Complaint in the above-referenced civil action seeks injunctive relief and civil penalties for violations of the Safe Drinking Water Act, 42 U.S.C. 300f et seq., at an underground injection well known as the Smith E 01, located in St. Clair County, Michigan. The complaint alleges that defendants failed to comply with various reporting requirements and mechanical integrity demonstration requirements set forth in applicable regulations, an undergound injection control (“UIC”) permit, and in Final Administrative Orders issued by the United States Environmental Protection Agency.

The proposed consent decree would require defendants to achieve and maintain compliance with the Safe Drinking Water Act, applicable regulations thereunder, and terms of the UIC permit for the Smith E 01 Well. In addition, the proposed consent decree would require defendants to pay a civil penalty of $50,000.

The Department of Justice will receive, for a period of thirty (30) days from the date of this publication, comments relating to the proposed Consent Decree. Comments should be addressed to the Assistant Attorney General for the Environment and Natural Resources Division, United States Department of Justice, P.O. Box 7611, Ben Franklin Station, Washington, D.C. 20044-7611, and should refer to United States v. Jupiter Oil Corp., et al., C.A. No. 98-CV-72684-DT (E.D. Mich.), and the Department of Justice Reference No. 90-5-1-1-4482.

The proposed Consent Decree may be examined at the Office of the United States Attorney for the Eastern District of Michigan, 231 West Fort Street, Suite 2001, Detroit, MI 48226; and at the Region 5 Office of the United States Environmental Protection Agency, 77 West Jackson Boulevard, Chicago, Illinois 60604-3590. A copy of the proposed Consent Decree may be obtained in person or by mail from the Consent Decree Library, P.O. Box 7611, Ben Franklin Station, Washington, D.C. 20044-7611. In requesting a copy, please refer to DJ #90-5-1-1-4482, and enclose a check in the amount of $3.50 (14 pages at 25 cents per page for reproduction costs). Makes checks payable to the Consent Decree Library.

Joel M. Gross,
Chief, Environmental Enforcement Section, Environment and Natural Resources Division.

[FR Doc. 00-1678 Filed 1-24-00; 8:45 am]

BILLING CODE 4410-15-M